DEPARTMENT OF COMMERCE

Foreign-Trade Zones Board

[B-31-2017]

Foreign-Trade Zone 19—Omaha, Nebraska, Application for Reorganization Under Alternative Site Framework

An application has been submitted to the Foreign-Trade Zones (FTZ) Board by the Greater Omaha Chamber of Commerce, grantee of FTZ 19, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 15, 2017.

FTZ 19 was approved by the FTZ Board on January 27, 1983 (Board Order 204, 48 FR 5772, February 8, 1983). The current zone includes the following sites: Site 1 (17 acres)—Cargo Zone, LLC, 6200 North 16th Street, Omaha; and, Site 2 (38 acres)—Riverfront Industrial Park, Abbott Drive and Crown Point Avenue, Omaha.

The grantee's proposed service area under the ASF would be Burt, Cass, Dodge, Douglas, Sarpy, Saunders and Washington Counties, Nebraska, as described in the application. If approved, the grantee would be able to serve sites throughout the service area based on companies' needs for FTZ designation. The application indicates that the proposed service area is within and adjacent to the Omaha, Nebraska U.S. Customs and Border Protection port of entry.

The applicant is requesting authority to reorganize its existing zone to include both sites as “magnet” sites. The ASF allows for the possible exemption of one magnet site from the “sunset” time limits that generally apply to sites under the ASF, and the applicant proposes that Site 1 be so exempted. No subzones/usage-driven sites are being requested at this time. The application would have no impact on FTZ 19's previously authorized subzone.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is August 7, 2017. Rebuttal comments in response to material submitted during the foregoing period may be submitted during the subsequent 15-day period to August 21, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: June 2, 2017.
Andrew McGilvray,
Executive Secretary.

[FR Doc. 2017-11834 Filed 6-6-17; 8:45 am]

BILLING CODE 3510-DS-P